DEPARTMENT OF AGRICULTURE

Agricultural Marketing Service

7 CFR Part 1207

[Docket No. AMS-FV-06-0219; FV-05-711]

Potato Research and Promotion Plan; Section 610 Review

AGENCY: Agricultural Marketing Service, USDA.

ACTION: Confirmation of regulations.

SUMMARY: This document summarizes the results of an Agricultural Marketing Service (AMS) review of the Potato Research and Promotion Program, under the criteria contained in Section 610 of the Regulatory Flexibility Act. Based upon its review, AMS has determined that the Potato Research and Promotion Plan should be continued without change.

ADDRESSES: Interested persons may obtain a copy of the review. Requests for copies should be sent to the Docket Clerk, Research and Promotion Branch, Fruit and Vegetable Programs (FV), Agricultural Marketing Service (AMS), USDA, Stop 0244, Room 0634-S, 1400 Independence Avenue, SW., Washington, DC 20250-0244; telephone (202) 720-9915; Fax (202) 205-2800; or e-mail: Daniel.Manzoni@usda.gov.

FOR FURTHER INFORMATION CONTACT: Sonia N. Jimenez, Research and Promotion Branch, FV, AMS, USDA, Stop 0244, 1400 Independence Avenue, SW., Room 0634-S, Washington, DC 20250-0244; telephone: (888) 720-9917; fax: (202) 205-2800; or e-mail: Sonia.Jimenez@usda.gov.

SUPPLEMENTARY INFORMATION: The Potato Research and Promotion Act of 1971, as amended, (7 U.S.C. 2611 et seq.) authorized the Potato Research and Promotion Program which is industry operated and funded, with oversight by USDA. The Program's objective is to carry out an effective and continuous coordinated program of research, development, advertising, and promotion designed to strengthen potatoes' competitive position, and to maintain and expand domestic and foreign markets for potatoes and potato products.

The Program became effective on March 9, 1972, and was implemented on September 15, 1972, when the Potato Research and Promotion Plan (Plan) (7 CFR part 1207) was issued. The plan was amended in May 1984, to increase the maximum assessment rate from 1 cent per hundredweight to 0.5 percent of the previous 10-year average price received by growers. The Plan was amended again on March 8, 2006, to increase the assessment rate from 2 cents per hundredweight to 2.5 cents per hundredweight.

Assessments under this Program are used to fund promotional campaigns and to conduct research in the areas of U.S. marketing, and international marketing and to enable the Potato Board (Board) to exercise its duties in accordance with the Plan.

The Plan is administered by the Board, which is composed of producer members, importer members, and one public member appointed by the Secretary of Agriculture from nominations submitted by eligible groups. Producer membership on the Board is based upon potato production within each State. Importer members, limited to five, are based upon the amount of potatoes, potato products, and seed potatoes imported into the U.S. All members serve terms of three years.

AMS published in the Federal Register (63 FR 8014; February 18, 1999) its plan to review certain regulations, including the Potato Research and Promotion Plan, (conducted under the Potato Research and Promotion Act), under criteria contained in Section 610 of the Regulatory Flexibility Act (RFA; 5 U.S.C. 601-612). The Plan to review certain regulations was updated in the Federal Register on August 14, 2003 (68 FR 48574), and updated again on March 24, 2006 (71 FR 14827).

AMS published a notice of review and request for written comments in the Federal Register on December 14, 2005 (70 FR 73945). The comment period ended on February 13, 2006. AMS received three written comments. One commenter encouraged the Board to place more emphasis on the nutritional benefits of potatoes. The Board routinely conducts research into the nutritional benefits of potatoes and uses that information to promote the benefits of potatoes. A second commenter questioned why potato research is needed and suggested that the program be terminated. However, the Board does not conduct production research. The Board establishes and carries out research and development projects and studies in order to encourage, expand, improve or more efficiently market and utilize potatoes. The third commenter merely sent their organizational structure and did not provide any substantive comment.

The review was undertaken to determine whether the Potato Research and Promotion Plan should be continued without change, amended, or rescinded (consistent with the objectives of the Potato Research and Promotion Act of 1971) to minimize the impacts on small entities. In conducting this review, AMS considered the following factors: (1) The continued need for the Potato Research and Promotion Plan; (2) the nature of complaints or comments received from the public concerning the Potato Research and Promotion Plan; (3) the complexity of the Potato Research and Promotion Plan; (4) the extent to which the Potato Research and Promotion Plan overlaps, duplicates, or conflicts with other Federal rules, and, to the extent feasible, with State and local regulations; and (5) the length of time since the Potato Research and Promotion Plan has been evaluated or the degree to which technology, economic conditions, or other factors have changed in the area affected by the Potato Research and Promotion Plan.

Currently, there are approximately 1,353 handlers, 5,223 producers, and 300 importers of potatoes and potato products who are subject to the provisions of the Plan. Producers of less than 5 acres of potatoes are exempt from assessment.

AMS provides Federal oversight of the Potato Research and Promotion Plan. The Plan is not unduly complex, and AMS has not identified any Federal rules, or State and local regulations that duplicate, overlap, or conflict with the Plan. Over the years, regulation changes have been made to address industry operation changes and to improve program administration. The goal of these evaluations is to assure that the Plan and the regulations implemented under it fit the needs of the industry and are consistent with the Act.

Based upon its review, AMS has determined that the Plan should be continued without change. AMS plans to continue working with the potato industry in maintaining an effective program.

Dated: January 10, 2007.
Lloyd C. Day,
Administrator, Agricultural Marketing Service.

[FR Doc. E7-426 Filed 1-12-07; 8:45 am]

BILLING CODE 3410-02-P